NUCLEAR REGULATORY COMMISSION

[NRC-2008-0122]

NUREG/CR-XXXX, Criteria for Development of Evacuation Time Estimate Studies, Draft Report for Comment

AGENCY: Nuclear Regulatory Commission.

ACTION: Announcement of issuance for public comment, availability.

SUMMARY: The Nuclear Regulatory Commission (NRC) has issued for public comment a document entitled: NUREG/CR-XXXX, “Criteria for Development of Evacuation Time Estimate Studies.” The Evacuation Time Estimate (ETE) is a calculation of the time to evacuate the plume exposure pathway emergency planning zone (EPZ), an area with a radius of about 10 miles around a nuclear power plant (NPP). The ETE is primarily used to inform protective action decisions during NPP radiological emergencies and may be used to assist in the development of traffic management plans to support an evacuation. This document is an acceptable template for use by NPP licensees to meet NRC requirements for the development of ETE studies. It also provides guidance for the update and review of ETEs. The format and criteria provided in this document will support consistent application of ETE methodology and will facilitate consistent NRC review of ETE studies.

DATES: Comments must be filed no later than 75 days from the date of publication of this notice in the Federal Register. Comments received after this date will be considered, if it is practical to do so, but the NRC staff is able to ensure consideration only for comments received on or before this date.

ADDRESSES: NUREG/CR-XXXX, “Criteria for Development of Evacuation Time Estimate Studies,” is available for inspection and copying for a fee at the NRC Public Document Room, Public File Area O1-F21, 11555 Rockville Pike, Rockville, Maryland. Publicly available documents created or received at the NRC after November 1, 1999, are available electronically at the NRC's Electronic Reading Room at http://www.nrc.gov/reading-rm.html. From this site, the public can gain entry into the NRC's Agencywide Document Access and Management System (ADAMS), which provides text and image files of NRC's public documents. The ADAMS Accession number for this NUREG/CR is: ML090560622. If you do not have access to ADAMS or if there are problems in accessing the documents located in ADAMS, contact the NRC Public Document Room (PDR) Reference staff at 1-800-397-4209, 301-415-4737 or by e-mail to pdr.resource@nrc.gov.

Comments will be made available to the public in their entirety; personal information, such as your name, address, telephone number, e-mail address, etc., will not be removed from your submission. You may submit comments by any one of the following methods: Federal e-Rulemaking Portal: Go to http://www.regulations.gov; search on Docket ID: NRC-2008-0122. Address questions about NRC dockets to Carol Gallagher 301-492-3668; e-mail carol.gallagher@nrc.gov. Mail comments to: Michael T. Lesar, Chief, Rulemaking and Directives Branch, Office of Administration, Mail Stop: TWB-05-B01M, U.S. Nuclear Regulatory Commission, Washington, DC 20555-0001, and cite the publication date and page number of this Federal Register notice.

FOR FURTHER INFORMATION CONTACT: Mr. Frank J. (Jeff) Laughlin, Division of Preparedness and Response, Office of Nuclear Security and Incident Response, U.S. Nuclear Regulatory Commission, Washington, DC 20555-0001. Telephone: 301-415-1113, or e-mail at jeff.laughlin@nrc.gov.

SUPPLEMENTARY INFORMATION: NUREG/CR-XXXX, “Criteria for Development of Evacuation Time Estimate Studies,” supersedes previous NRC guidance concerning the development of ETE studies. This document provides guidance for addressing new emergency planning (EP) requirements for nuclear power plants based on proposed changes to EP regulations in Title 10, “Energy,” Part 50, “Domestic Licensing of Production and Utilization Facilities,” of the Code of Federal Regulations (10 CFR Part 50), specifically Section 50.47, “Emergency Plans,” and Appendix E, “Emergency Planning and Preparedness for Production and Utilization Facilities” (reference RIN 3150-AI10).

NRC is issuing guidance for the development of ETEs that requires licensees to analyze several scenarios including all directions and distances within the EPZ, across time of day, day of week, adverse and normal weather conditions and peak population special events. NRC is seeking comment from offsite response organizations as to the type of scenarios to be developed to adequately support offsite protective action decision-making and evacuation planning efforts.

Dated at Rockville, Maryland, this 6th day of May 2009.
For the Nuclear Regulatory Commission.
Christopher G. Miller,
Deputy Director for Emergency Preparedness, Division of Preparedness and Response, Office of Nuclear Security and Incident Response.

[FR Doc. E9-11037 Filed 5-15-09; 8:45 am]

BILLING CODE 7590-01-P